DEPARTMENT OF TRANSPORTATION

Federal Aviation Administration

14 CFR Part 39

[Docket No. FAA-2015-1570; Directorate Identifier 2014-SW-054-AD; Amendment 39-18161; AD 2015-10-05]

RIN 2120-AA64

Airworthiness Directives; Airbus Helicopters (Previously Eurocopter France) Helicopters

AGENCY: Federal Aviation Administration (FAA), Department of Transportation (DOT).

ACTION: Final rule; request for comments.

SUMMARY: We are adopting a new airworthiness directive (AD) for Airbus Helicopters (previously Eurocopter France) Model AS365N3, EC155B, and EC155B1 helicopters with an external life raft in the footsteps with certain part-numbered junction units. This AD requires inspecting the junction units of the external life raft deployment system for corrosion, removing any corrosion, and performing certain measurements to determine whether the junction unit must be replaced. This AD is prompted by failure of a life raft deployment test and corrosion damage inside the left-hand junction unit. These actions are intended to prevent failure of an external life raft to deploy preventing evacuation of passengers during an emergency.

DATES: This AD becomes effective June 5, 2015.

The Director of the Federal Register approved the incorporation by reference of certain documents listed in this AD as of June 5, 2015.

We must receive comments on this AD by July 20, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, the economic evaluation, any incorporated by reference service information, any comments received, and other information. The street address for the Docket Operations Office (telephone 800-647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137. It is also available on the Internet at http://www.regulations.gov in Docket No. FAA-2015-1570.

FOR FURTHER INFORMATION CONTACT: Martin R. Crane, Aviation Safety Engineer, Regulations Group, Rotorcraft Directorate, FAA, 2601 Meacham Blvd., Fort Worth, Texas 76137; telephone (817) 222-5112; email martin.r.crane@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for Airbus Helicopters (previously Eurocopter France) Model AS365N3, EC155B, and EC155B1 helicopters with an external life raft in the footsteps with a junction unit, manufacturer part number (P/N) 200197 or P/N 200188 (Airbus Helicopters P/N 704A341302.48 or P/N 704A341302.30), installed. This AD requires inspecting the external life raft deployment system junction unit for corrosion, removing any corrosion, and measuring the clearance between the internal and external pulleys and the junction unit cover. If the clearance exceeds a certain threshold, this AD requires replacing the junction unit. This AD is prompted by failure of the external life raft deployment test and corrosion damage inside the left-hand junction unit, which blocked the deployment handle. These actions are intended to prevent corrosion damage inside a junction unit, which can prevent a deployment handle from functioning correctly and cause failure of an external life raft to deploy, preventing evacuation of passengers during an emergency.

EASA, which is the Technical Agent for the Member States of the European Union, has issued AD No. 2014-0214, dated September 24, 2014, to correct an unsafe condition for Airbus Helicopters Model AS365N3, EC155B, and EC155B1 helicopters with external life rafts in the footsteps with certain part-numbered junction units installed. EASA advises that failure of the external life raft deployment test was reported by a Model AS365 helicopter operator when the affected external life raft underwent a scheduled maintenance. The failure occurred during an attempt to release the life raft by pulling the left-hand internal deployment handle. Subsequent investigations revealed corrosion damage inside the left-hand junction unit, which blocked the deployment handle. The EASA AD requires an inspection of the tensile loads during a functional test of the life-raft system, the junction unit cover for drainage holes, and the junction unit cover for corrosion. The EASA AD also requires measuring operational clearance of the right-hand and the left-hand junction units of the external life raft deployment system and, depending on the findings, corrective action and reporting the results to Airbus.

FAA's Determination

These helicopters have been approved by the aviation authority of France and are approved for operation in the United States. Pursuant to our bilateral agreement with France, EASA, its technical representative, has notified us of the unsafe condition described in the EASA AD. We are issuing this AD because we evaluated all information provided by the EASA and determined the unsafe condition exists and is likely to exist or develop on other helicopters of these same type designs.

Related Service Information Under 1 CFR Part 51

Airbus Helicopters issued Alert Service Bulletin (ASB) No. EC155-05A027 for the Model EC155B and B1 helicopter and ASB No. AS365-05.00.67 for the Model AS365N3 helicopter. Both ASBs are Revision 1 and dated September 1, 2014. The ASBs specify checking the tensile load during a functional test of the life-raft system, checking that the drainage hole blank is correctly positioned, inspecting the junction units for corrosion, and measuring the operational clearance between the junction unit pulleys and the cover. If necessary, the ASBs call for removing the corrosion from the cover surface or pulleys and replacing the junction unit.

The ASBs state that the life raft deployment test on a Model AS365 helicopter failed when the left-hand internal deployment handle did not function correctly because the handle was blocked by corrosion inside the junction unit. ASB No. EC155-05A027 further states that Model EC155B and B1 helicopters are equipped with similar junction units.

This service information is reasonably available because the interested parties have access to it through their normal course of business or by the means identified in the ADDRESSES section of this AD.

AD Requirements

This AD requires, before further flight:

• Inspecting each external life raft deployment system unit for corrosion, and if there is corrosion, either removing the corrosion and applying a protective coating, primer, and paint to the surface or replacing the junction unit with an airworthy junction unit.

• Measuring the diameter of the junction unit cover and of each (internal and external) junction unit pulley for operational clearance. If the clearance is greater than 0.029 inch (0.75 mm), replacing the junction unit with an airworthy junction unit.

• Inspecting the drainage holes on the upper face and the lower surface of the junction unit cover to determine whether they are plugged. This AD requires plugging the drainage hole on the upper face if it is not plugged and removing the plug in the drainage hole on the lower surface if it is plugged.

Differences Between This AD and the EASA AD

The EASA AD requires a tensile load inspection and, depending on the results of the inspection, may allow a longer compliance time for the remaining required actions. This AD does not require the tensile load inspection and requires all required actions before further flight. The EASA AD allows the operational clearance measurements to be taken before any corrosion is removed, while this AD requires removing any corrosion before taking measurements. The EASA AD requires reporting the inspection results to the manufacturer; this AD does not.

Costs of Compliance

There are no costs of compliance with this AD because there are no helicopters equipped with the life raft deployment system that is the subject of this AD.

FAA's Justification and Determination of the Effective Date

There are no helicopters with the affected life raft deployment system; therefore, we believe it is unlikely that we will receive any adverse comments or useful information about this AD from U.S. Operators.

Since an unsafe condition exists that requires the immediate adoption of this AD, we determined that notice and opportunity for public comment before issuing this AD are unnecessary because there are no helicopters with the affected life raft deployment system and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-10-05 Airbus Helicopters (previously Eurocopter France): Amendment 39-18161; Docket No. FAA-2015-1570; Directorate Identifier 2014-SW-054-AD.

(a) Applicability

This AD applies to Model AS365N3, EC155B, and EC155B1 helicopters with an external life raft in the footstep installed with a junction unit, manufacturer part number (P/N) 200197 or P/N 200188 (Airbus Helicopters P/N 704A341302.48 or 704A341302.30), certificated in any category.

(b) Unsafe Condition

This AD defines the unsafe condition as corrosion damage inside a junction unit, which can prevent a deployment handle from functioning correctly. This condition could result in failure of an external life raft to deploy, preventing evacuation of passengers during an emergency.

(c) Effective Date

This AD becomes effective June 5, 2015.

(d) Compliance

You are responsible for performing each action required by this AD within the specified compliance time unless it has already been accomplished prior to that time.

(e) Required Actions

Before further flight:

(1) Inspect each external life raft deployment system left-hand and right-hand junction unit for corrosion in the areas shown in Figure 3 of Airbus Helicopters Alert Service Bulletin (ASB) No. EC155-05A027, Revision 1, dated September 1, 2014 (ASB No. EC155-05A027), or ASB No. AS365-05.00.67, Revision 1, dated September 1, 2014, (ASB No. AS365-05.00.67), as applicable to your helicopter model.

(2) If there is corrosion, either remove the corrosion and apply a protective coating, primer, and paint to the surface or replace the junction unit with an airworthy junction unit.

(3) Measure the diameter of the junction unit cover and of each (internal and external) junction unit pulley for operational clearance. If the clearance is greater than 0.029 inch (0.75 mm) as depicted in Figure 4 of ASB No. EC155-05A027 or Figure 5 of ASB No. AS365-05.00.67, as applicable to your helicopter model, replace the junction unit with an airworthy junction unit.

(4) Inspect the drainage hole on the upper face of the junction unit cover, and if it is unplugged, plug it.

(5) Inspect the drainage hole on the lower surface of the junction unit cover, and if it is plugged, remove the plug.

(f) Alternative Methods of Compliance (AMOCs)

(1) The Manager, Safety Management Group, FAA, may approve AMOCs for this AD. Send your proposal to: Martin R. Crane, Aviation Safety Engineer, Regulations Group, Rotorcraft Directorate, FAA, 2601 Meacham Blvd., Fort Worth, Texas 76137; telephone (817) 222-5112; email martin.r.crane@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2014-0214, dated September 24, 2014. You may view the EASA AD on the Internet at http://www.regulations.gov in Docket No. FAA-2015-1570.

(h) Subject

Joint Aircraft Service Component (JASC) Code: 2564 Equipment/Furnishing.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin (ASB) No. EC155-05A027, Revision 1, dated September 1, 2014.

(ii) Airbus Helicopters ASB No. AS365-05.00.67, Revision 1, dated September 1, 2014.

(3) For Airbus Helicopters service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 11, 2015.
Lance T. Gant,
Acting Directorate Manager, Rotorcraft Directorate, Aircraft Certification Service.

[FR Doc. 2015-12004 Filed 5-20-15; 8:45 am]

BILLING CODE 4910-13-P